FEDERAL COMMUNICATIONS COMMISSION

47 CFR Part 74

[MB Docket Nos. 03-185 and 22-261; FCC 22-58; FR ID 104614]

Establishing Rules for Digital Low Power Television and Television Translator Stations

AGENCY: Federal Communications Commission.

ACTION: Final rule.

SUMMARY: In this document, the Federal Communications Commission (Commission or FCC) adopts several rule updates to otherwise outdated rules for low power television and TV translator stations following the July 13, 2021, transition from analog to digital operations. This final rule deletes or revises rules that no longer have any practical effect given the completion of the low power television (LPTV)/translator digital transition, or that are otherwise obsolete or irrelevant. In addition, this final rule makes certain ministerial changes, for example, to delete analog rules, and to add definitions and other information previously adopted in rulemaking proceedings but inadvertently omitted from the rules.

DATES: Effective October 24, 2022.

FOR FURTHER INFORMATION CONTACT: Joyce Bernstein, Media Bureau, at (202) 418-1647 or Joyce.Bernstein@fcc.gov.

SUPPLEMENTARY INFORMATION: This is a synopsis of the Commission's Order, in MB Docket Nos. 03-185, 22-261; FCC 22-58, adopted on July 12, 2022, and released on July 13, 2022, and revised in Erratum, released September 9, 2022. The full text of this document is available for download at https://docs.fcc.gov/public/attachments/FCC-22-58A1.pdf. To request materials in accessible formats (braille, large print, computer diskettes, or audio recordings), please send an email to FCC504@fcc.gov or call the Consumer & Government Affairs Bureau at (202) 418-0530 (VOICE), (202) 418-0432 (TTY).

Synopsis

On October 25, 2021, in connection with the completion of the incentive auction and broadcast television spectrum repacking authorized by the Middle Class Tax Relief and Job Creation Act, the Commission adopted a new Table of TV Allotments for full power television stations and also amended part 74 to remove references to channels and frequency bands that are no longer in-core television spectrum and/or references to analog TV operations which were no longer permitted (86 FR 66193 (Nov. 22, 2021)). The Commission stated in that order that in a future proceeding, it would conduct a review of its rules to delete provisions relating to analog television and update other rules pertaining to television. This item is part of that ongoing effort.

The Digital Transition and Analog Termination Deadlines. Full power television stations largely completed their transition from analog to digital operations by June 12, 2009, and Class A television stations did the same by September 1, 2015. In 2011, when the Commission first adopted a digital transition deadline for LPTV/translators and established September 1, 2015, as the deadline (the “original transition deadline”), it found that “the Communications Act compelled low power television stations ultimately to convert to digital operation.” The Commission reasoned that “allowing low power stations to continue operating in analog . . . would prevent consumers from enjoying the benefits of digital broadcast technology, including improved picture and sound quality, and additional program offerings through multicasting.”

In the 2015 Low Power Television Digital Transition Third Report and Order (LPTV DTV Third R&O) (81 FR 5041 (Feb. 1, 2016)), the Commission recognized that the incentive auction would likely have a significant impact on LPTV/translator digital conversion plans and therefore extended the original transition deadline to 12 months after the completion of the 39-month post-incentive auction transition period, which became July 13, 2021. The Commission also set July 13, 2021, as the analog termination deadline—the date by which all LPTV/translator stations were required to terminate all analog television operations, regardless of whether their digital facilities were operational. When extending the digital transition and analog termination deadline in 2015, the Commission affirmed its commitment to completing the LPTV/translator digital transition by a date certain, concluding that the new deadline must continue to be a “hard deadline” when all LPTV/translator stations terminate all analog operations regardless of whether their digital facilities are operational. The LPTV/translator transition was successfully completed, and the vast majority (97%) of LPTV/translator stations completed their transition and are now operating in digital. Thus, analog television is now a legacy service.

Deletion of Obsolete Rules Recognizing the Digital Transition. Given that LPTV/translator stations have ceased analog operations, we adopt revisions to certain part 74 rules. Because these revisions to the rules described in this section of this final rule merely eliminate provisions of the rules that are obsolete due to the conversion from analog to digital television technology, we find good cause to conclude that notice and comment procedures are unnecessary and would not serve any useful purpose. See 5 U.S.C. 553(b)(3)(B) (providing that notice and comment are not required “when the agency for good cause finds . . . that notice and public procedure thereon are impracticable, unnecessary, or contrary to the public interest.”).

Specifically, we eliminate in their entirety rules that provide for analog-to-analog and analog-to-digital interference protection requirements and other analog operating requirements, including: 47 CFR 74.706 (Digital TV (DTV) station protection); 74.707 (Low power TV and TV translator station protection); and 74.761 (Frequency tolerance). Where these rules are referred to in other rules, the digital licensing rule number is substituted. See, e.g., 47 CFR 74.703(a) (Interference). The digital-to-digital interference protection standards are found in §§ 74.792 (Low power TV and TV translator station protected contour) and 74.793(b) (Low power TV and TV translator station protection of broadcast stations) of the rules. The “purpose and permissible service requirements” currently found in § 74.731 will now be found in § 74.790 (Permissible service of TV translator and LPTV stations). We also delete 47 CFR 74.736 (Emissions and bandwidth), which applies solely to analog television broadcasting, and remove analog references from 47 CFR 74.793(b), (c), (f), and (h).

We also eliminate the viewer notification requirement that terminated at the end of the digital transition on July 13, 2021, and the pre-transition digital construction period processing procedures. See 47 CFR 74.798 (Digital television transition notices by broadcasters). This rule required stations to notify viewers of their transition from analog to digital and that requirement ended with the LPTV/translator stations' successful transition to digital operations. Since all stations were required to complete their digital conversion by July 13, 2021, and are either operating in digital or are silent, the rule is now obsolete. We also delete 47 CFR 74.788 (Digital construction period). This rule provided, in part, for certain LPTV/translator stations to apply for a single six-month extension of their digital construction permit past the July 13, 2021, digital transition deadline, and set out construction responsibilities of Class A and LPTV/translator stations holding both analog and digital construction permits. The extended six-month time period ended January 10, 2022. LPTV/translator permittees, and licensees holding construction permits, are subject to the three-year construction period and tolling provisions set forth in 47 CFR 73.3598(a) and (b).

We also amend rule headings and language in rules to remove references to DTV, digital, and analog television service. Because LPTV/translators transitioned from analog to digital operations, there is no further need to differentiate between digital and analog or to reference analog service in the following rules: 47 CFR 74.701(b) (Definitions—Primary station); (j) (Digital television broadcast translator station); (k) (Digital low power TV station); (m) (Existing low power television or television translator station); (n) (Suitable in core channel); 74.735(b) (Power limitations); 74.787(a) and (b) (Digital licensing). Digital replacement translators and digital-to-digital replacement translators may continue to seek displacement if necessary, under § 74.787(a)(4) (Displacement applications), even though the specific language in § 74.787(a)(5)(i) is being removed because it is obsolete. In addition, because LPTV/translator permittees and licensees holding construction permits are subject to the three-year construction period and tolling provision set forth in 47 CFR 73.3598(a) and (b), the requirements set forth in 47 CFR 74.787(a)(5)(ii) are obsolete.

We similarly remove the differentiations between digital and analog and references to analog service in 47 CFR 74.790(a) through (k) (Permissible service of digital TV translator and LPTV stations); 74.791(a) through (c) (Digital call signs); 74.793(a) and (b) (Digital low power TV and TV translator station protection of broadcast stations); 74.794(a)(1) (Digital emissions); 74.795(a) and (b) (Digital low power TV and TV translator transmission system facilities); and 74.796(a) (Modification of digital transmission systems and analog transmission systems for digital operation).

We also delete references to analog interference rules. See 47 CFR 74.735(c) (Power limitations).

Finally, we amend rule headings and language in rules to eliminate references to television boosters and UHF translator signal boosters, which were analog services, in the following rules: 47 CFR part 74, subpart G heading; 47 CFR 74.701(i) (Definitions—Television broadcast booster station); 74.702(c) (Channel assignments); 74.703(a) through (c) and (i) (Interference); 74.732(g) and (h) (Eligibility and licensing requirements); 74.734(a) (Attended and unattended operation); 74.735(b) (Power limitations); 74.751(b)(1) (Modification of transmission systems); 74.763(a) and (c) (Time of operation); 74.780 (Heading—Broadcast regulations applicable to translators and low power and booster stations); 74.781(a) and (c) (Station records); 74.784(d) (Rebroadcasts); 74.792(a) (Digital low power TV and TV translator station protected contour); 74.733 (UHF translator signal boosters); and 74.701(e) (Definitions—UHF translator signal booster). Analog UHF translator signal boosters were first authorized in 1963, 28 FR 13722, 13724 (1963), decades before the advent of digital television. At that time, the Commission also adopted rules that distinguished between VHF (channels 2 through 13) and UHF (channels 70 through 83) translators, id., which did not carry over into digital processing and operations. Accordingly, we also delete 47 CFR 74.701(c) and (d) (Definitions—VHF Translator and UHF Translator) and language in 47 CFR 74.702(a)(1) and (2) (Channel assignments) that refers to these facilities.

We also delete references to companion digital channels, which referred to digital channels associated with stations' authorized analog channels, and digital conversion channels, which referred to previously authorized analog channels that were converted to digital operations. See 47 CFR 74.701(o) and (p) (Definitions—Companion digital channel and Digital conversion channel); and 74.787(a)(1) and (2) (Digital licensing—Applications for digital conversion and Applications for companion digital channel).

Additional Ministerial Rule Updates. We adopt additional non-substantive, technical revisions to certain part 74 rules as set forth in the final regulations and further described below. We amend certain rules to provide LPTV/translator licensees and permittees with accurate information about current Commission forms. See 47 CFR 74.751(b) (Modification of transmission systems); 74.787(a)(3) and (4) (Digital licensing); and 74.797 (Biennial Ownership Reports). We note that the numbering of our forms has changed with the transition of the Commission's broadcast licensing database from the Consolidated Database System (CDBS) to the Licensing and Management System (LMS). See also 47 CFR 74.703(a) (updating location of Commission's main office).

We also delete duplicate sections that were contained in both the analog and digital portions of part 74 in the following rules: 47 CFR 74.701(g) (Program origination). This section mirrored the digital-specific rule in 47 CFR 74.701(l) (Digital program origination), which we retain. We modify 47 CFR 74.789 (Broadcast regulations applicable to digital low power television and television translators), 74.787(a)(5)(viii), and 74.780 of the Commission's rules (Broadcast regulations applicable to translators, low power, and booster stations) to delete some rules that no longer exist and correct the headings of some rules. We also delete 47 CFR 74.731 (Purpose and permissible service) because it is largely repeated at 47 CFR 74.790 (Permissible service of digital TV translator and LPTV stations), with the exception of § 74.731(m), which has been moved to § 74.790(m). Finally, we retain pertinent text from 47 CFR 74.790(f), and move it to paragraph (l) of that section, and make non-substantive editorial changes for clarity.

We also add definitions of analog-to-digital replacement translators (DRTs) and digital-to-digital replacement translators (DTDRTs). See 47 CFR 74.701 and 74.787(a)(5). The definitions were adopted in the Commission's order creating the digital-to-digital translator service in Amendment of Parts 73 and 74 of the Commission's Rules to Establish Rules for Digital Low Power Television and Television Translator Stations, MB Docket No. 03-185, Third Report and Order, 81 FR 5041 (Feb. 1, 2016), and Fourth Notice of Proposed Rulemaking, 81 FR 5086 (Feb. 1, 2016), 30 FCC Rcd 14927, 14956-57, para. 65 (2015) and in the order creating the analog-to-digital replacement translator service in Amendment of Parts 73 and 74 of the Commission's Rules to Establish Rules for Replacement Digital Low Power Television Translator Stations, MB Docket No. 08-253, 74 FR 23650 (May 20, 2009), Report and Order, 24 FCC Rcd 5931, 5933, para. 4 (2009).

We also add an explanatory note to § 74.709 to reference and explain the existence of a granted waiver with respect to the community of Los Angeles, California. Section 74.709 of the rules requires LPTV/translator stations to protect certain channels for use by the land mobile radio service (LMRS) in thirteen U.S. cities listed in the rule. In 2008, the Commission's Public Safety and Homeland Security Bureau (PSHSB) granted a waiver pursuant to section 337(c) of the Communications Act, as amended, allowing the County of Los Angeles to use channel 15 in Los Angeles for public safety communications. See Request for Waiver of the Commission's Rules to Authorize Public Safety Communications in the 476-482 MHz Band (County of Los Angeles, California), Order, 23 FCC Rcd 18389 (PSHSB 2008). Because this channel is adjacent to two channels contained in § 74.709, we believe the public interest is served by including a note explaining the existence of the 2008 waiver.

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding. The Commission has determined, and the Administrator of the Office of Information and Regulatory Affairs, Office of Management and Budget, concurs that this rule is “non-major” under the Congressional Review Act, 5 U.S.C. 804(2). The Commission will also send a copy of the Order to Congress and the Government Accountability office, pursuant to 5 U.S.C. 801(a)(1)(A).

List of Subjects in 47 CFR Part 74

Low Power TV, TV translator stations.

Federal Communications Commission.
Marlene Dortch,
Secretary, Office of the Secretary.

Final Regulations

For the reasons discussed in the preamble, the Federal Communications Commission amends 47 CFR part 74 as follows:

PART 74—EXPERIMENTAL RADIO, AUXILIARY, SPECIAL BROADCAST AND OTHER PROGRAM DISTRIBUTIONAL SERVICES

1. The authority citation for part 74 is revised to read as follows:

Authority: 47 U.S.C. 154, 302a, 303, 307, 309, 310, 325, 336 and 554.

2. The heading for subpart G is revised to read as follows:

Subpart G—Low Power TV and TV Translator Stations

3. Section 74.701 is amended by:

a. Revising paragraphs (b), (c), and (d);

b. Removing and reserving paragraphs (e), (g), and (i);

c. Revising paragraphs (j), (k), and (m); and

d. Removing paragraphs (n), (o), and (p).

The revisions read as follows:

§ 74.701 Definitions.

* * * * *

(b) Primary station. The television station which provides the programs and signals being retransmitted by a television broadcast translator station.

(c) Analog to Digital Replacement Translator (DRT). A television translator licensed to a full power television station that allows it to restore service to any loss areas that may have occurred as a result of its transition from analog to digital.

(d) Digital to Digital Replacement Translator (DTDRT). A television translator licensed to a full power television station that allows it to restore service to any loss areas that may have occurred as a result of the station being assigned a new channel pursuant to the Incentive Auction and repacking process.

* * * * *

(j) Television broadcast translator station (“TV translator station”). A station operated for the purpose of retransmitting the programs and signals of a television broadcast station, without significantly altering any characteristic of the original signal other than its frequency, for the purpose of providing television reception to the general public.

(k) Low power TV station (“LPTV station”). A station authorized under the provisions of this subpart that may retransmit the programs and signals of a television broadcast station, may originate programming in any amount greater than 30 seconds per hour for the purpose of providing television reception to the general public and, subject to a minimum video program service requirement, may offer services of an ancillary or supplementary nature, including subscription-based services. (See § 74.790.)

* * * * *

(m) Existing low power television or television translator station. When used in this subpart, the terms existing low power television and existing television translator station refer to a low power television station or television translator station that is either licensed or has a valid construction permit.

4. Section 74.702 is amended by:

a. Revising paragraphs (a)(1) and (2); and

b. Removing and reserving paragraph (c).

The revisions read as follows:

§ 74.702 Channel assignments.

(a) * * *

(1) Any one of the 12 standard VHF Channels (2 to 13 inclusive) may be assigned to a low power TV or TV translator station.

(2) Any one of the UHF Channels from 14 to 36, inclusive, may be assigned to a low power TV or TV translator station. In accordance with § 73.603(c) of this chapter, Channel 37 will not be assigned to such stations.

* * * * *

5. Section 74.703 is amended by:

a. Revising paragraphs (a) and (b) and the first sentence of paragraph (c); and

b. Removing and reserving paragraph (i).

The revisions read as follows:

§ 74.703 Interference.

(a) An application for a new low power TV or TV translator station or for a change in the facilities of such an authorized station will not be granted when it is apparent that interference will be caused. Except where there is a written agreement between the affected parties to accept interference, or where it can be shown that interference will not occur due to terrain shielding and/or Longley-Rice terrain dependent propagation methods, the licensee of a new low power TV or TV translator station shall protect existing low power TV and TV translator stations from interference within the protected contour defined in § 74.792 and shall protect existing Class A TV stations within the protected contours defined in § 73.6010 of this chapter. Such written agreement shall accompany the application. Copies of OET Bulletin No. 69 may be inspected during normal business hours at the Federal Communications Commission's Reference Information Center, located at the address of the FCC's main office indicated in 47 CFR 0.401(a). This document is also available through the internet on the FCC Home Page at https://www.fcc.gov/oet/info/documents/bulletins/#69.

(b) It shall be the responsibility of the licensee of a low power TV or TV translator station to correct at its expense any condition of interference to the direct reception of the signal of any full-power TV broadcast station operating on the same channel as that used by the low power TV or TV translator station or an adjacent channel which occurs as a result of the operation of the low power TV or TV translator station. Interference will be considered to occur whenever reception of a regularly used signal is impaired by the signals radiated by the low power TV or TV translator station, regardless of the quality of the reception or the strength of the signal so used. If the interference cannot be promptly eliminated by the application of suitable techniques, operation of the offending low power TV or TV translator station shall be suspended and shall not be resumed until the interference has been eliminated. If the complainant refuses to permit the low power TV or TV translator station to apply remedial techniques that demonstrably will eliminate the interference without impairment of the original reception, the licensee of the low power TV or TV translator station is absolved of further responsibility.

(c) It shall be the responsibility of the licensee of a low power TV or TV translator station to correct any condition of interference which results from the radiation of radio frequency energy outside its assigned channel. * * *

* * * * *

§ 74.706 [Removed and Reserved]

6. Remove and reserve § 74.706.

§ 74.707 [Removed and Reserved]

7. Remove and reserve § 74.707.

8. Section 74.709 is amended by adding a note at the end of the section to read as follows:

§ 74.709 Land mobile station protection.

* * * * *

Note 1 to § 74.709. The Chief, Public Safety and Homeland Security Bureau waived the rules of this section to allow channel 15 to be used for land mobile operation in Los Angeles County, CA (DA 08-2823; adopted December 30, 2008). Notwithstanding the channels listed in paragraph (a) or (b)(2) of this section, the waiver requires LPTV and translator stations to protect this land mobile operation.

§ 74.731 [Removed and Reserved]

9. Remove and reserve § 74.731.

§ 74.732 [Amended]

10. Section 74.732 is amended by removing and reserving paragraphs (g) and (h).

§ 74.733 [Removed and Reserved]

11. Remove and reserve § 74.733.

12. Section 74.734 is amended by revising paragraph (a) introductory text to read as follows:

§ 74.734 Attended and unattended operation.

(a) Low power TV and TV translator stations may be operated without a designated person in attendance if the following requirements are met:

* * * * *

13. Section 74.735 is amended by revising paragraphs (b) introductory text and (b)(2) and the first sentence of paragraph (c) introductory text to read as follows:

§ 74.735 Power limitations.

* * * * *

(b) The maximum ERP of a low power TV or TV translator station (average power) shall not exceed:

* * * * *

(2) 15 kW for UHF channels 14-36.

(c) The limits in paragraph (b) of this section apply separately to the effective radiated powers that may be obtained by the use of horizontally or vertically polarized transmitting antennas. * * *

* * * * *

§ 74.736 [Removed and Reserved]

14. Remove and reserve § 74.736.

15. Section 74.751 is amended by revising paragraphs (b) introductory text and (b)(1) to read as follows:

§ 74.751 Modification of transmission systems.

* * * * *

(b) Formal application (FCC Form 2100, Schedule C) is required for any of the following changes:

(1) Replacement of the transmitter as a whole, except replacement with a transmitter of identical power rating which has been certificated by the FCC for use by low power TV and TV translator stations, or any change which could result in a change in the electrical characteristics or performance of the station.

* * * * *

§ 74.761 [Removed and Reserved]

16. Remove and reserve § 74.761.

17. Section 74.763 is amended by revising paragraph (a) and the first sentence of paragraph (c) to read as follows:

§ 74.763 Time of operation.

(a) A low power TV or TV translator station is not required to adhere to any regular schedule of operation. However, the licensee of a TV translator station is expected to provide service to the extent that such is within its control and to avoid unwarranted interruptions in the service provided.

* * * * *

(c) Failure of a low power TV or TV translator station to operate for a period of 30 days or more, except for causes beyond the control of the licensee, shall be deemed evidence of discontinuation of operation and the license of the station may be cancelled at the discretion of the FCC. * * *

* * * * *

18. Revise § 74.780 to read as follows:

§ 74.780 Broadcast regulations applicable to translators and low power stations.

The following rules are applicable to TV translator and low power TV stations:

(a) 47 CFR part 5—Experimental authorizations.

(b) 47 CFR 73.658—Affiliation agreements and network program practices; territorial exclusivity in non-network program arrangements.

(c) 47 CFR part 11—Emergency Alert System (for low power TV stations locally originating programming as defined by § 74.701(h)).

(d) 47 CFR 73.1030—Notifications concerning interference to radio astronomy, research, and receiving installations.

(e) 47 CFR 73.1206—Broadcast of telephone conversations.

(f) 47 CFR 73.1207—Rebroadcasts.

(g) 47 CFR 73.1208—Broadcast of taped, filmed, or recorded material.

(h) 47 CFR 73.1211—Broadcast of lottery information.

(i) 47 CFR 73.1212—Sponsorship identifications; list retention; related requirements.

(j) 47 CFR 73.1216—Licensee-conducted contests.

(k) 47 CFR 73.1515—Special field test authorizations.

(l) 47 CFR 73.1615—Operation during modification of facilities.

(m) 47 CFR 73.1635—Special temporary authorizations (STA).

(n) 47 CFR 73.1650—International agreements.

(o) 47 CFR 73.1680—Emergency antennas.

(p) 47 CFR 73.1692—Reserved.

(q) 47 CFR 73.1940—Legally qualified candidates for public office.

(r) 47 CFR 73.2080—Equal employment opportunities (for low power TV stations only).

(s) 47 CFR 73.3500—Application and report forms.

(t) 47 CFR 73.3511—Applications required.

(u) 47 CFR 73.3512—Where to file; number of copies.

(v) 47 CFR 73.3513—Signing of applications.

(w) 47 CFR 73.3514—Content of applications.

(x) 47 CFR 73.3516—Specification of facilities.

(y) 47 CFR 73.3517—Contingent applications.

(z) 47 CFR 73.3518—Inconsistent or conflicting applications.

(aa) 47 CFR 73.3519—Repetitious applications.

(bb) 47 CFR 73.3521—Mutually exclusive applications for low power TV and TV translator stations.

(cc) 47 CFR 73.3522—Amendment of applications.

(dd) 47 CFR 73.3525—Agreements for removing application conflicts.

(ee) 47 CFR 73.3533—Application for construction permit or modification of construction permit.

(ff) 47 CFR 73.3536—Application for license to cover construction permit.

(gg) 47 CFR 73.3538(a)(1), (3), and (4) and (b)—Application to make changes in an existing station.

(hh) 47 CFR 73.3539—Application for renewal of license.

(ii) 47 CFR 73.3540—Application for voluntary assignment or transfer of control.

(jj) 47 CFR 73.3541—Application for involuntary assignment of license or transfer of control.

(kk) 47 CFR 73.3542—Application for emergency authorization.

(ll) 47 CFR 73.3544—Application to obtain a modified station license.

(mm) 47 CFR 73.3545—Application for permit to deliver programs to foreign stations.

(nn) 47 CFR 73.3550—Requests for new or modified call sign assignments.

(oo) 47 CFR 73.3561—Staff consideration of applications requiring Commission action.

(pp) 47 CFR 73.3562—Staff consideration of applications not requiring action by the Commission.

(qq) 47 CFR 73.3564—Acceptance of applications.

(rr) 47 CFR 73.3566—Defective applications.

(ss) 47 CFR 73.3568—Dismissal of applications.

(tt) 47 CFR 73.3572—Processing of TV broadcast, low power TV, and TV translator station applications.

(uu) 47 CFR 73.3580—Local public notice of filing of broadcast applications.

(vv) 47 CFR 73.3584—Petitions to deny.

(ww) 47 CFR 73.3587—Informal objections.

(xx) 47 CFR 73.3591—Grants without hearing.

(yy) 47 CFR 73.3593—Designation for hearing.

(zz) 47 CFR 73.3594—Local public notice of designation for hearing.

(aaa) 47 CFR 73.3597—Procedures on transfer and assignment applications.

(bbb) 47 CFR 73.3598—Period of construction.

(ccc) 47 CFR 73.3601—Simultaneous modification and renewal of license.

(ddd) 47 CFR 73.3603—Special waiver procedure relative to applications.

(eee) 47 CFR 73.3612—Annual employment report (for low power TV stations only).

(fff) 47 CFR 73.3613—Availability to FCC of station contracts (network affiliation contracts for low power TV stations only).

19. Section 74.781 is amended by revising paragraph (a) and the first sentence of paragraph (c) to read as follows:

§ 74.781 Station records.

(a) The licensee of a low power TV or TV translator station shall maintain adequate station records, including the current instrument of authorization, official correspondence with the FCC, contracts, permission for rebroadcasts, and other pertinent documents.

* * * * *

(c) The station records shall be maintained for inspection at a residence, office, or public building, place of business, or other suitable place, in one of the communities of license of the translator, except that the station records of a translator licensed to the licensee of the primary station may be kept at the same place where the primary station records are kept. * * *

* * * * *

§ 74.784 [Amended]

20. Section 74.784 is amended by removing and reserving paragraph (d) and removing the parenthetical authority citation at the end of the section.

21. Section 74.787 is amended by:

a. Revising the section heading and paragraph (a) heading;

b. Removing and reserving paragraphs (a)(1) and (2);

c. Revising the fourth sentence of paragraph (a)(3) and paragraphs (a)(4) and (a)(5)(i);

d. Removing and reserving paragraph (a)(5)(ii);

e. Revising paragraph (a)(5)(iii);

f. Removing and reserving paragraph (a)(5)(iv);

g. Removing the first sentence of paragraph (a)(5)(v); and

h. Revising paragraphs (a)(5)(vii) and (viii), (b) heading, and (b)(1) introductory text.

The revisions read as follows:

§ 74.787 Licensing.

(a) Applications for low power television and television translator stations. * * *

(3) * * * Such applications shall be accepted on a first-come, first-served basis, and shall be filed on FCC Form 2100, Schedule C. * * *

(4) Displacement applications. A low power television, television translator, or DRT or DTDRT station which is causing or receiving interference or is predicted to cause or receive interference to or from an authorized TV broadcast station or allotment or other protected station or service, may at any time file a displacement relief application for change in channel, together with technical modifications that are necessary to avoid interference or continue serving the station's protected service area, provided the proposed transmitter site is not located more than 30 miles from the reference coordinates of the existing station's community of license. See § 76.53 of this chapter. A displacement relief application shall be filed on FCC Form 2100, Schedule C, and will be considered a minor change and will be placed on public notice for a period of not less than 30 days to permit the filing of petitions to deny. These applications will not be subject to the filing of competing applications. Where a displacement relief application for a low power television or television translator station becomes mutually exclusive with the application(s) for new low power television or television translator stations, or with other non-displacement relief applications for facilities modifications of low power television or television translator stations, priority will be afforded to the displacement application for the low power television or television translator station to the exclusion of other applications. Mutually exclusive displacement relief applications for low power television and television translator stations shall be resolved via the Commission's rules in part 1 of this chapter and broadcast competitive bidding rules in §§ 1.2100 through 1.2209 and 73.5000 through 73.5009 of this chapter. Such applicants shall be afforded an opportunity to submit settlements and engineering solutions to resolve mutual exclusivity pursuant to § 73.5002(d) of this chapter.

(5) * * *

(i) Applications for new DRTs and DTDRTs are no longer accepted.

* * * * *

(iii) Displacement applications for DRTs and DTDRTs shall be given processing priority over all other low power television and TV translator new, minor change, or displacement applications except displacement applications for other DRTs and DTDRTs with which they shall have co-equal priority.

* * * * *

(vii) Analog-to-digital and digital-to-digital replacement television translators may operate only on those television channels designated for broadcast television in § 74.702.

(viii) The following sections are applicable to analog-to-digital and digital-to-digital replacement television translator stations:

(A) Section 74.703—Interference.

(B) Section 74.709—Land mobile station protection.

(C) Section 74.734—Attended and unattended operation.

(D) Section 74.735—Power limitations.

(E) Section 74.751—Modification of transmission systems.

(F) Section 74.763—Time of operation.

(G) Section 74.769—Familiarity with FCC rules.

(H) Section 74.780—Broadcast regulations applicable to translators and low power stations.

(I) Section 74.781—Station records.

(J) Section 74.784—Rebroadcasts.

(b) Definitions of “major” and “minor” changes to low power television and television translator stations. (1) Applications for major changes in low power television and television translator stations include:

* * * * *

§ 74.788 [Removed and Reserved]

22. Remove and reserve § 74.788.

23. Revise § 74.789 to read as follows:

§ 74.789 Broadcast regulations applicable to low power television and television translator stations.

The following sections are applicable to low power television and television translator stations:

(a) Section 74.600—Eligibility for license.

(b) Section 74.703—Interference.

(c) Section 74.709—Land mobile station protection.

(d) Section 74.732—Eligibility and licensing requirements.

(e) Section 74.734—Attended and unattended operation.

(f) Section 74.735—Power limitations.

(g) Section 74.751—Modification of transmission systems.

(h) Section 74.763—Time of operation.

(i) Section 74.769—Familiarity with FCC rules.

(j) Section 74.780—Broadcast regulations applicable to translators and low power stations.

(k) Section 74.781—Station records.

(l) Section 74.784—Rebroadcasts.

24. Section 74.790 is amended by revising the section heading and paragraphs (a), (b) introductory text, (b)(1) introductory text, (b)(1)(ii), (b)(2), (c) through (f), (g) introductory text, (g)(1), (3), and (4), and (h) through (k) and adding paragraphs (l) and (m) to read as follows:

§ 74.790 Permissible service of TV translator and LPTV stations.

(a) TV translator stations provide a means whereby the signals of broadcast stations may be retransmitted to areas in which direct reception of such stations is unsatisfactory due to distance or intervening terrain barriers.

(b) Except as provided in paragraph (f) of this section, a TV translator station may be used only to receive the signals of a TV broadcast station, another TV translator station, a TV translator relay station, a television intercity relay station, a television STL station, or other suitable sources such as a CARS or common carrier microwave station, for the simultaneous retransmission of the programs and signals of a TV broadcast station. Such retransmissions may be accomplished by any of the following means:

(1) Reception of TV broadcast station programs and signals directly through space and conversion to a different channel by one of the following transmission modes:

* * * * *

(ii) Digital signal regeneration (i.e., signal demodulation, decoding, error processing, encoding, remodulation, and frequency upconversion) and suitable amplification; or,

(2) Demodulation, remodulation, and amplification of TV broadcast station programs and signals received through a microwave transport.

(c) The transmissions of each TV translator station shall be intended for direct reception by the general public, and any other use shall be incidental thereto. A TV translator station shall not be operated solely for the purpose of relaying signals to one or more fixed receiving points for retransmission, distribution, or further relaying.

(d) Except as provided in paragraphs (e) and (f) of this section, the technical characteristics of the retransmitted signals shall not be deliberately altered so as to hinder reception on consumer TV broadcast receiving equipment.

(e) A TV translator station shall not retransmit the programs and signals of any TV broadcast station(s) without the prior written consent of such station(s). A TV translator may multiplex on its output channel the video program services of two or more TV broadcast stations, pursuant to arrangements with all affected stations, and for this limited purpose, is permitted to alter a TV broadcast signal.

(f) A TV translator station may transmit locally originated visual and/or aural messages limited to emergency warnings of imminent danger, to local public service announcements (PSAs) and to seeking or acknowledging financial support deemed necessary to the continued operation of the station. Acknowledgments of financial support may include identification of the contributors, the size and nature of the contribution and the advertising messages of the contributors. The originations concerning financial support and PSAs are limited to 30 seconds each, no more than once per hour. Emergency transmissions shall be no longer or more frequent than necessary to protect life and property. Such originations may be accomplished by any technical means agreed upon between the TV translator and TV station whose signal is being retransmitted, but must be capable of being received on consumer TV broadcast reception equipment.

(g) An LPTV station may operate under the following modes of service:

(1) For the retransmission of programming of a TV broadcast station, subject to the prior written consent of the station whose signal is being retransmitted.

* * * * *

(3) Whenever operating, an LPTV station must transmit at least one over-the-air video program signal at no direct charge to viewers at least comparable in resolution to that of its associated analog (NTSC) LPTV station or, in the case of an on-channel digital conversion, that of its former analog LPTV station.

(4) An LPTV station may dynamically alter the bit stream of its signal to transmit one or more video program services in any established DTV video format.

(h) An LPTV station is not subject to minimum required hours of operation and may operate in either of the two modes described in paragraph (g) of this section for any number of hours.

(i) Upon transmitting a signal that meets the requirements of paragraph (g)(3) of this section, an LPTV station may offer services of any nature, consistent with the public interest, convenience, and necessity, on an ancillary or supplementary basis in accordance with the provisions of § 73.624(c) and (g) of this chapter.

(j) An LPTV station may not be operated solely for the purpose of relaying signals to one or more fixed receiving points for retransmission, distribution or relaying.

(k) An LPTV station may receive input signals for transmission or retransmission by any technical means, including those specified in paragraph (b) of this section.

(l) As necessary, a TV translator shall modify, to avoid TV reception tuning conflicts with other stations, the Program System and Information Protocol (PSIP) information in the TV broadcast signal being retransmitted.

(m) Low power television and TV translator stations may no longer operate any facility in analog (NTSC) mode.

25. Revise § 74.791 to read as follows:

§ 74.791 Call signs.

(a) Low power stations. Call signs for low power stations will be made up of a prefix consisting of the initial letter K or W followed by the channel number assigned to the station and two additional letters and a suffix consisting of the letters -D.

(b) Television translator stations. Call signs for digital television translator stations will be made up of a prefix consisting of the initial letter K or W followed by the channel number assigned to the station and two additional letters and a suffix consisting of the letter -D.

(c) Low power television stations and Class A television stations. Low power television and Class A television stations may be assigned a call sign with a four-letter prefix pursuant to § 73.3550 of this chapter. Low power stations with four-letter prefixes will be assigned the suffix -LD and digital Class A stations with four-letter prefixes will be assigned the suffix -CD.

26. Section 74.792 is amended by revising the section heading and paragraphs (a) introductory text and (a)(3) to read as follows:

§ 74.792 Low power TV and TV translator station protected contour.

(a) A low power TV or TV translator will be protected from interference from other low power TV, TV translator, or Class A TV stations within the following predicted contours:

* * * * *

(3) 51 dBu for stations on Channels 14 through 36.

* * * * *

27. Section 74.793 is amended by:

a. Revising the section heading and paragraphs (a), (b), and (c);

b. Removing and reserving paragraph (f); and

c. Revising paragraph (h).

The revisions read as follows:

§ 74.793 Low power TV and TV translator station protection of broadcast stations.

(a) An application to construct a new low power TV or TV translator station or change the facilities of an existing station will not be accepted if it fails to meet the interference protection requirements in this section.

(b) Except as provided in this section, interference prediction analysis is based on the interference thresholds (D/U signal strength ratios) and other criteria and methods specified in § 73.623(c)(2) through (4) of this chapter. Predictions of interference to co-channel TV broadcast, Class A TV, LPTV, and TV translator stations will be based on the interference thresholds specified therein for “DTV-into-DTV.”

(c) The following D/U signal strength ratio (dB) shall apply to the protection of stations on the first adjacent channel. The D/U ratios correspond to the LPTV or TV translator station's specified out-of-channel emission mask.

Table 1 to Paragraph (c)
Simple mask | Stringent mask | Full service mask
−7 | −12 | Lower (−28)/Upper (−26).

* * * * *

(h) Protection to the authorized facilities of low power TV and TV translator stations shall be based on not causing predicted interference to the population within the service area defined and described in § 74.792, except that a digital low power TV or TV translator station must not cause a loss of service to 2.0 percent or more of the population predicted to receive service from the authorized low power TV or TV translator station.

28. Section 74.794 is amended by revising paragraph (a)(1) to read as follows:

§ 74.794 Digital emissions.

(a)(1) An applicant for a LPTV or TV translator station construction permit shall specify that the station will be constructed to confine out-of-channel emissions within one of the following emission masks: Simple, stringent, or full service.

* * * * *

29. Section 74.795 is amended by revising the section heading, paragraph (a), and paragraph (b) introductory text to read as follows:

§ 74.795 Low power TV and TV translator transmission system facilities.

(a) A low power TV or TV translator station shall operate with a transmitter that is either certificated for licensing based on the following provisions or has been modified for digital operation pursuant to § 74.796.

(b) The following requirements must be met before low power TV and TV translator transmitter will be certificated by the FCC:

* * * * *

30. Section 74.796 is amended by revising the section heading and paragraph (a) to read as follows:

§ 74.796 Modification of transmission systems.

(a) The provisions of § 74.751 shall apply to the modification of low power TV and TV translator transmission systems.

* * * * *

31. Section 74.797 is amended by revising the first and second sentences to read as follows:

§ 74.797 Biennial Ownership Reports.

The Ownership Report for Commercial Broadcast Stations (FCC Form 2100, Schedule 323) must be electronically filed by December 1 in all odd-numbered years by each licensee of a low power television station or other Respondent (as defined in § 73.3615(a) of this chapter). A licensee or other Respondent with a current and unamended biennial ownership report (i.e., a report that was filed pursuant to this section) on file with the Commission that is still accurate and which was filed using the version of the report that is current on October 1 of the year in which its biennial ownership report is due may electronically validate and resubmit its previously filed biennial ownership report. * * *

§ 74.798 [Removed and Reserved]

32. Remove and reserve § 74.798.

[FR Doc. 2022-20294 Filed 9-22-22; 8:45 am]

BILLING CODE 6712-01-P